DEPARTMENT OF JUSTICE

Notice of Lodging of Consent Decree Under the Clean Water Act

In accordance with the Departmental Policy, 28 CFR 50.7, notice is hereby given that a proposed consent decree in United States v. Trident Seafoods Corporation, Civil Action No. A02-281 CV (RRB), was lodged with the United States District Court for the District of Alaska on November 13, 2002.

This Consent Decree resolves claims brought by the United States against Trident Seafoods Corporation (“Trident”) for its unauthorized and illegal discharges of pollutants into Tongass Narrows and Akutan Harbor from its seafood processing facilities in Ketchikan and Akutan, Alaska, in violation of section 301(a) of the Clean Water Act (“CWA”), 33 U.S.C. 1311(a), and for violations of certain effluent limitations and other conditions established in a general National Pollutant Discharge Elimination System (“NPDES”) permit issued by the EPA under section 402(a) of the CWA, 33 U.S.C. 1342(a).

The proposed Consent Decree requires Trident to (1) remediate its underwater waste piles, which result from Trident's discharges of seafood processing wastes from its Ketchikan Facility and cover more than three acres of the sea floor; (2) eliminate all of its discharges of seafood processing wastes into the Tongass Narrows for a period of three years; (3) implement improved operation and maintenance measures at its Ketchikan Facility to ensure compliance with numerous effluent limitations; (4) pay a civil penalty in the amount of $96,000.00; and (5) conduct a supplemental environmental project (“SEP”) involving an economic study evaluating treatment alternatives for its seafood processing wastes.

The Department of Justice will receive written comments on the proposed Consent Decree for a period of thirty (30) days from the date of publication of this notice. Comments should be addressed to the Assistant Attorney General, Environmental and Natural Resources Division, P.O. Box 7611, U.S. Department of Justice, Washington, DC 20044-7611, and should refer to United States v. Trident Seafoods Corporation, D.J. Ref. 90-5-1-1-2002/1.

The Consent Decree may be examined at the Office of the United States Attorney, District of Alaska, Federal Building & United States Courthouse, 222 West 7th Avenue, Room 253, Anchorage, Alaska, 99513-7567, and at U.S. Environmental Protection Agency, Region X, 1200 Sixth Avenue, Seattle, Washington 98101. A copy of the Consent Decree may also be obtained by mail from the Consent Decree Library, P.O. Box 7611, U.S. Department of Justice, Washington, DC 20044-7611. When requesting a copy, please enclose a check to cover the twenty-five cents per page reproduction costs payable to the “U.S. Treasury” in the amount of $8.25, and please reference United States v. Trident Seafoods Corporation, D.J. Ref. 90-5-1-1-2002/1.

Robert Maher,
Assistant Section Chief, Environmental Enforcement Section, Environment and Natural Resources Division.

[FR Doc. 02-31244 Filed 12-10-02; 8:45 am]

BILLING CODE 4410-15-M